ENVIRONMENTAL PROTECTION AGENCY

[FRL-7202-9]

Office of Research and Development EPA Board of Scientific Counselors, Executive Committee Meeting—Closed

AGENCY: Environmental Protection Agency (EPA).

ACTION: Notice of meeting.

SUMMARY: The EPA Board of Scientific Counselors (BOSC) will hold an Executive meeting on May 13, 2002. Pursuant to section 10(d) of the Federal Advisory Committee Act (FACA), 5 U.S.C. App. 2 and section (c)(6) of the Government in the Sunshine Act, 5 U.S.C. 552b(c)(6), EPA has determined that the May 13, 2002, meeting will be closed to the public. The topic of discussion is to recommend new Board members to the Assistant Administrator for Research and Development to serve on the BOSC. In making these recommendations, the members will need to have full and frank discussions regarding potential nominees. Such personnel issues, where disclosure would constitute an unwarranted invasion of personal privacy, are protected from disclosure by exemptions 6 of section 552(b)(c) of the U.S.C. In accordance with the provisions of the Federal Advisory Committee Act, minutes of the May 13, 2002, discussions will be kept for Agency and Congressional review.

FOR FURTHER INFORMATION CONTACT: Ms. Shirley R. Hamilton, Designated Federal Officer, U.S. Environmental Protection Agency, Office of Reserach and Development, NCER (MC 8701R), 1200 Pennsylvania Avenue, NW., Washington, DC 20460, telephone: (202) 564-6853 or e-mail at: hamilton.shirley@epa.gov/

Dated: April 8, 2002.
Christine Todd Whitman,
Administrator.

[FR Doc. 02-10419 Filed 4-26-02; 8:45 am]

BILLING CODE 6560-50-M